DEPARTMENT OF EDUCATION

Applications for New Awards; Grants to States for School Emergency Management Program

AGENCY: Office of Elementary and Secondary Education, Department of Education.

ACTION: Notice.

Overview Information

Grants to States for School Emergency Management Program Notice inviting applications for new awards for fiscal year (FY) 2014.

Catalog of Federal Domestic Assistance (CFDA) Number: 84.184Q.

DATES:

Applications Available: May 23, 2014.

Deadline for Transmittal of Applications: July 7, 2014.

Deadline for Intergovernmental Review: September 5, 2014.

Full Text of Announcement

I. Funding Opportunity Description

Purpose of Program: The Grants to States for School Emergency Management Program provides grants to State educational agencies (SEAs) to increase their capacity to assist local educational agencies (LEAs) by providing training and technical assistance in the development and implementation of high-quality school emergency operations plans (EOPs).

Background

A 2007 report from the Government Accountability Office (GAO) notes that while 85 percent of LEAs have requirements for emergency management planning and 95 percent have written emergency management plans, the content within these plans varies.¹ For example, according to the GAO report, some LEA plans included federally recommended practices and procedures for all hazards, while other LEA plans did not. Also, according to the GAO report, many school district officials said that they experience challenges in planning for emergencies and some school districts face difficulties in communicating and coordinating with first responders.

¹ “Most School Districts Have Developed Emergency Management Plans, but Would Benefit from Additional Federal Guidance,” GA0-07-609, June 2007. Available at http://www.gao.gov/new.items/d07609.pdf.

In 2013, President Obama proposed a comprehensive plan, “Now is the Time,” to protect our children and communities by reducing gun violence, making schools safer, and increasing access to mental health services, including grants to States to help their school districts develop and implement emergency management plans.² The Grants to States for School Emergency Management Grant Program also was included in the President's FY 2014 budget request, and Congress provided funding for the new program in the Department of Education Appropriations Act, 2014.

² Available at: http://www.whitehouse.gov/sites/default/files/docs/wh_now_is_the_time_full.pdf.

The elements of the Now is the Time (NITT) plan to make our schools safer include a focus on improving emergency operations plans, to which this program responds, as well as proposals for new comprehensive school safety programs, more nurturing school climates, and new investments to help schools address pervasive violence. High-quality school EOPs make our schools safer by supporting efforts to prevent, protect against, mitigate, respond to, and recover from all hazards, both natural and man-made.

In order to develop and implement high-quality EOPs, LEA staff must have access to training and technical assistance on developing, implementing, and refining their plans. SEAs can play a critical role in providing the necessary training and technical assistance to LEAs.

Generally SEAs share with their LEAs information about applicable laws and mandates about school emergency management planning; and make resources available so that LEAs can fulfill their obligations. For example, SEAs may provide training, resources, tools, and information to support school safety and security, including emergency management planning. SEAs may also work with other State agencies or organizations to provide emergency management services to LEAs.

Priority and Requirements: We are establishing this priority and the application and program requirements for the FY 2014 grant competition and any subsequent year in which we make awards from the list of unfunded applications from this competition, in accordance with section 437(d)(1) of the General Education Provisions Act (GEPA), 20 U.S.C. 1232(d)(1).

Absolute Priority: This priority is an absolute priority. Under 34 CFR 75.105(c)(3) we consider only applications that meet this priority.

This priority is:

Expand the capacity of State educational agencies (SEAs) to provide training and technical assistance to local educational agencies (LEAs) for the development and implementation of high-quality school emergency operations plans (EOPs).

Under this priority, those SEAs that currently have limited internal capacity regarding the development and implementation of high-quality EOPs must propose to first expand their internal SEA capacity before providing such training and technical assistance to LEAs.

SEAs that provide evidence of current internal capacity (e.g. currently have EOP subject matter experts on staff and comprehensive and up-to-date state EOP resources) may propose to immediately provide or expand such training and technical assistance to LEAs.

Program Requirements: If an applicant is awarded a grant under this program, it must meet the following requirements:

(1) Provide an established point of contact (e.g., person or office) for school emergency management issues and submit that information to the U.S. Department of Education (Department) no later than the project start date;

(2) Provide training and technical assistance to LEAs that result in adoption of best practices for developing and implementing school EOPs including, but not necessarily limited to, those provided in the Guide for Developing High-Quality School Emergency Operations Plans)³;

³ Available at: http://rems.ed.gov/EOPGuides. Plans must comply with the Americans with Disabilities Act (ADA), among other prohibitions on disability discrimination, across the spectrum of emergency management services, programs, and activities, including preparation, testing, notification and alerts, evacuation, transportation, sheltering, emergency medical care and services, transitioning back, recovery, and repairing and rebuilding. Plans should include students, staff, and parents with disabilities. Among other things, school emergency plans must address the provision of appropriate auxiliary aids and services to ensure effective communication with individuals with disabilities (e.g., interpreters, captioning, and accessible information technology); ensure individuals with disabilities are not separated from service animals and assistive devices, and can receive disability-related assistance throughout emergencies (e.g., assistance with activities of daily living, administration of medications); and comply with the law's architectural and other requirements. (Information and technical assistance about the ADA is available at http://www.ada.gov.)

(3) Provide training and technical assistance to LEAs on developing or enhancing memoranda of understanding with community partners (e.g., local government, law enforcement, public safety or emergency management, public health, and mental health agencies); and

(4) Provide training and technical assistance to LEAs on the implementation of the National Incident Management System (NIMS). Information about current NIMS requirements for States may be accessed at: http://www.fema.gov/national-incident-management-system.

Application Requirements: The following requirements apply to all applications submitted under this competition. The applicant must provide a plan that includes the following:

(1) Information on: (a) Training, technical assistance, and resources the applicant currently provides to LEAs on emergency management; and (b) the proposed number of LEAs, including rural LEAs that might not otherwise have full access to school emergency management training and resources, that would receive training and technical assistance resulting in the development and implementation of high-quality school EOPs under the applicant's proposal.

(2) A strategy for improving the applicant's: (a) Capacity to provide training and technical assistance to LEAs, including rural LEAs that might not otherwise have full access to school emergency management training and resources, resulting in the development and implementation of high-quality school EOPs; and capacity to address the unique needs of students, staff, and visitors with disabilities and other access and functional needs; (b) existing training and technical assistance activities for LEAs; (c) availability of emergency management resources; and (d) alignment of emergency management training, technical assistance, and resources with emergency management planning at the Federal, State, and local levels.

(3) Identification of a process for the coordination and sustainability of support that will be provided to LEAs so that they can continue to improve their schools' EOPs beyond the period of Federal financial assistance.

Definitions: We are establishing the definitions for acceptable, adequate, complete, compliant, feasible, high-quality school emergency operations plan (EOP), mitigation, prevention, protection, recovery, response, rural LEA, technical assistance, and training in this notice for the FY 2014 grant competition and any subsequent year in which we make awards from the list of unfunded applications from this competition, in accordance with section 437(d)(1) of the General Education Provisions Act (GEPA), 20 U.S.C. 1232(d)(1). The remaining definitions are from 34 CFR 77.1(c), 20 U.S.C. 7801(30), and 48 U.S.C. 1921(f)(1)(B)(viii).

These definitions are:

Acceptable means the plan meets the requirements driven by a threat or hazard, meets cost and time limitations, and is consistent with the law.

Adequate means the plan identifies and addresses critical courses of action effectively; can accomplish the assigned function; and the assumptions are valid and reasonable.

Complete means the plan

• Incorporates all courses of action to be accomplished for all selected threats and hazards and identified functions;

• Integrates the needs of the whole school community;

• Provides a complete picture of what should happen, when, and at whose direction;

• Estimates time for achieving objectives, with safety remaining as the utmost priority;

• Identifies success criteria and a desired end state; and

• Conforms with the planning principles outlined in the Guide for Developing High-Quality School Emergency Operations Plans.

Compliant means the plan complies with applicable State and local requirements because these provide a baseline that facilitates both planning and execution.

Feasible means the school can accomplish the assigned function and critical tasks by using available resources within the time contemplated by the plan, and that the plan explains where or how the district and school will obtain the resources to support the execution of a course of action or to meet a requirement established in the plan.

High-Quality School Emergency Operations Plan (EOP) means a comprehensive emergency operations plan that encompasses the five mission areas—(1) prevention, (2) protection, (3) mitigation, (4) response, and (5) recovery—and that is (a) adequate, (b) feasible, (c) acceptable, (d) complete, and (e) compliant.⁴

⁴ Derived from: (1) Presidential Policy Directive 8, available at https://www.dhs.gov/;presidential-policy-directive-8-national-preparedness ; and (2) the Guide for Developing High-Quality Emergency Operations Plans, available at http://rems.ed.gov/EOPGuides.

Mitigation means the capabilities necessary to eliminate or reduce the loss of life and property damage by lessening the impact of an event or emergency. It also means reducing the likelihood that threats and hazards will happen.

LEA means a local educational agency as defined by section 9101(26) of the ESEA.

Outlying areas means the United States Virgin Islands, Guam, American Samoa, the Commonwealth of the Northern Mariana Islands, the Republic of Palau, the Federated States of Micronesia, and the Republic of the Marshall Islands.

Prevention means the capabilities necessary to avoid, deter, or stop an imminent crime or threatened or actual mass casualty incident. Prevention is also the action schools take to prevent a threatened or actual incident from occurring; and includes those capabilities necessary to avoid, prevent, or stop a threatened or actual act of terrorism, and it includes preventing imminent threats.

Protection means the capabilities to secure schools against acts of violence and manmade or natural disasters. Protection focuses on ongoing actions that protect students, teachers, staff, visitors, networks, and property from a threat or hazard.

Recovery means the capabilities necessary to assist schools affected by an event or emergency in restoring the learning environment.

Response means the capabilities necessary to stabilize an emergency once it has already happened or is certain to happen in an unpreventable way; establish a safe and secure environment; save lives and property; and facilitate the transition to recovery.

Rural LEA means an LEA with one of the following district locale codes as assigned by the National Center for Education Statistics' Common Core of Data: Code 33 (Remote Town); Code 41 (Fringe Rural); Code 42 (Distant Rural); and Code 43 (Remote Rural). LEA locale codes may be obtained by searching the Common Core of Data database at: http://nces.ed.gov/ccd/districtsearch/.

SEA means a State educational agency as defined by section 9101 (41) of the Elementary and Secondary Education Act of 1965, as amended (ESEA).

State means any of the 50 States, the District of Columbia, and the Commonwealth of Puerto Rico, and each of the Outlying areas as defined in this notice.

Technical assistance means consultations, information, referrals, and other assistance on specific issues, topics, or problems as requested by the LEAs and other stakeholders. The grantee disseminates materials collected, developed, adapted, and adopted for this assistance. Technical assistance may proceed, follow, or be combined with training activities.

Training means instruction directed toward imparting knowledge, skills, and attitudes supportive of change by engaging, informing, equipping, and motivating trainees toward the development and implementation of plans responsive to the specific need or circumstances of the trainees. Training may consist of various formats (e.g., workshops, seminars, or computer-assisted tutorials).

Waiver of Proposed Rulemaking: Under the Administrative Procedure Act (5 U.S.C. 553) the Department generally offers interested parties the opportunity to comment on proposed priorities, requirements, and definitions. Section 437(d)(1) of GEPA (20 U.S.C 1232(d)(1)), however, allows the Secretary to exempt from rulemaking requirements, regulations governing the first grant competition under a new or substantially revised program authority.

This is the first grant competition for this program under the appropriation for Safe Schools and Citizenship Education in the Department of Education Appropriations Act, 2014, Title III of Division H of Public Law 113-76, and section 4121 of the ESEA (20 U.S.C. 7131) and therefore qualifies for this exemption.

In order to ensure timely grant awards, the Secretary has decided to forgo public comment on the priority, requirements, and definitions in this notice under section 437(d)(1) of GEPA. This priority, these requirements, and these definitions will apply to the FY 2014 grant competition and any subsequent year in which we make awards from the list of unfunded applicants from this competition.

Program Authority: 20 U.S.C. 7131; the Department of Education Appropriations Act, 2014, Title III of Division H of Public Law 113-76.

Applicable Regulations: (a) The Education Department General Administrative Regulations (EDGAR) in 34 CFR parts 74, 75, 76, 77, 79, 80, 81, 82, 84, 86, 97, 98, and 99. (b) The Education Department suspension and debarment regulations in 2 CFR part 3485. (c) The regulations in 34 CFR part 299.

II. Award Information

Type of Award: Discretionary grants.

Estimated Available Funds: $29,700,000.

Estimated Range of Awards: $ 85,714 to $3,273,301.

Estimated Average Size of Awards: $503,389.

Estimated Number of Awards: 59.

Note: The Department is not bound by any estimates in this notice.

Project Period: Up to 18 months. Budgets should be developed for a single project period of up to 18 months. No continuation awards will be provided.

Maximum Awards: We will not fund any budget exceeding the following maximum award amount for each eligible applicant. The Department developed these amounts as follows: First, the Department reserved 1 percent ($300,000) for the Bureau of Indian Education (BIE) schools operated by the Department of the Interior. (Those funds are not included within this notice inviting applications for new awards; rather, the Department will transfer them to the BIE under an interagency agreement.) Second, the Department reserved 2 percent ($600,000), and allocated it in equal amounts of $85,714 among each of the 7 Outlying Areas. The Department allocated the remaining $29,100,000 among the 50 States, the District of Columbia, and the Commonwealth of Puerto Rico on the basis of school-aged (5- to 17-year-old) population data from the U.S. Census Bureau, with a minimum per State award of $250,000.

Alabama 400,269

Alaska 250,000

Arizona 577,218

Arkansas 252,562

California 3,273,301

Colorado 436,746

Connecticut 293,237

Delaware 250,000

District of Columbia 250,000

Florida 1,432,228

Georgia 886,937

Hawaii 250,000

Idaho 250,000

Illinois 1,098,371

Indiana 569,748

Iowa 257,314

Kansas 254,602

Kentucky 360,964

Louisiana 392,400

Maine 250,000

Maryland 478,177

Massachusetts 506,167

Michigan 826,376

Minnesota 453,370

Mississippi 264,604

Missouri 500,485

Montana 250,000

Nebraska 250,000

Nevada 250,000

New Hampshire 250,000

New Jersey 732,350

New Mexico 250,000

New York 1,512,831

North Carolina 814,371

North Dakota 250,000

Ohio 962,047

Oklahoma 330,034

Oregon 306,922

Pennsylvania 986,909

Puerto Rico 312,619

Rhode Island 250,000

South Carolina 382,946

South Dakota 250,000

Tennessee 532,643

Texas 2,464,627

Utah 307,907

Vermont 250,000

Virginia 658,271

Washington 557,940

West Virginia 250,000

Wisconsin 472,509

Wyoming 250,000

Guam 85,714

Virgin Islands 85,714

American Samoa 85,714

Commonwealth of the Northern Mariana Islands 85,714

Republic of Palau 85,714

Federated States of Micronesia 85,714

Republic of the Marshall Islands 85,714

III. Eligibility Information

1. Eligible Applicants: SEAs.

Note: Consistent with the definitions in this notice, eligible applicants include SEAs in the 50 States, the District of Columbia, the Commonwealth of Puerto Rico, the United States Virgin Islands, Guam, American Samoa, the Commonwealth of the Northern Mariana Islands, the Republic of Palau, the Federated States of Micronesia, and the Republic of the Marshall Islands. Eligible applicants may collaborate informally or contract with other agencies to provide services to LEAs, including agencies such as:

• A State school safety center;

• The State Emergency Management Agency; and

• The State Homeland Security Department.

2. Cost Sharing or Matching: This competition does not require cost sharing or matching.

3. Other:

a. Participation by Nonpublic School Students and Teachers. Applicants are required to provide for the equitable participation of nonpublic school students, their teachers, and other educational personnel in nonpublic schools located in the State served by the grant. In order to ensure that grant program activities address the needs of nonpublic schools, the applicant must engage in timely and meaningful consultation with nonpublic school officials during the design and development of the program. This consultation must take place before any decision is made that affects the opportunities of eligible nonpublic school students, teachers, and other educational personnel to participate.

In order to ensure equitable participation of nonpublic school students, teachers, and other educational personnel, an applicant must consult with private school officials on school emergency management issues such as: threats and hazards unique to nonpublic schools in the State, training needs, and existing EOPs and school emergency management resources already available to the nonpublic schools.

b. Administrative Direction and Control. Administrative direction and control over grant funds must remain with the grantee.

c. Limitation on Applications. The Department will accept only one application per SEA.

IV. Application and Submission Information

1. Address to Request Application Package: You can obtain an application package via the Internet or from the Education Publications Center (ED Pubs).

To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.184Q.

Individuals with disabilities can obtain a copy of the application package in an accessible format (e.g., braille, large print, audiotape, or computer disc) by contacting the person listed under Accessible Format in section VIII of this notice.

2. Content and Form of Application Submission: Requirements concerning the content of an application, together with the forms you must submit, are in the application package for this competition.

Page Limit: The application narrative is where you, the applicant, provide the project narrative and management plan to address the selection criteria that reviewers use to evaluate your application. The required budget and budget narrative will be provided in a separate section. You must limit the application narrative to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The page limit does not apply to the cover sheet; the budget section, including the narrative budget justification; the assurances and certifications; or the one-page abstract, the resumes, the bibliography, or the letters of support. However, the page limit does apply to all of the application narrative section.

Our reviewers will not read any pages of your application that exceed the page limit.

3. Submission Dates and Times:

Applications Available: May 23, 2014.

Deadline for Transmittal of Applications: July 7, 2014.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice. Deadline for Intergovernmental Review: September 5, 2014.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management (SAM): To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on the application; and

d. Maintain an active SAM registration with current information while your application is under review by the Department and, if you are awarded a grant, during the project period.

You can obtain a DUNS number from Dun and Bradstreet. A DUNS number can be created within one-to-two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov before you can submit an application through Grants.gov.

If you are currently registered with SAM, you may not need to make any changes. However, please make certain that the TIN associated with your DUNS number is correct. Also, note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: http://www.grants.gov/web/grants/register.html.

7. Other Submission Requirements:

Applications for grants under this competition must be submitted electronically unless you qualify for an exception to this requirement in accordance with the instructions in this section.

a. Electronic Submission of Applications

Applications for grants under the Grants to States for School Emergency Management Program, CFDA number 84.184Q, must be submitted electronically using the Governmentwide Grants.gov Apply site. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for Grants to States for School Emergency Management competition at www.Grants.gov. You must search for the downloadable application package for this competition by the CFDA number. Do not include the CFDA number's alpha suffix in your search (e.g., search for 84.184, not 84.184Q).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. Except as otherwise noted in this section, will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You also can find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative section and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and email or fax your statement to: Amy Banks, U.S. Department of Education, 400 Maryland Avenue SW., Room 3E117, Washington, DC 20202-6450. FAX: (202) 453-6716.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address:

U.S. Department of Education,

Application Control Center,

Attention: (CFDA Number 84.184Q),

LBJ Basement Level 1,

400 Maryland Avenue SW.,

Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address:

U.S. Department of Education, Application Control Center, Attention: (CFDA Number 84.184Q), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your applications to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 of EDGAR and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. The may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measure: The Department has established the following Government Performance and Results Act of 1993 (GPRA) performance measure for the Grants to States for School Emergency Management program:

1. The number of LEAs with high-quality EOPs at the start of the grant compared to the number of LEAs with high-quality EOPs at the end of the grant.

VII. Agency Contact

FOR FURTHER INFORMATION CONTACT: Amy Banks, U.S. Department of Education, 400 Maryland Avenue SW., Room 3E117, Washington, DC 20202-6450. Telephone: (202) 453-6704 or by email: Amy.Banks@ed.gov.

If you use a TDD or a TTY, call the Federal Relay Service, toll free, at 1-800-877-8339.

VIII. Other Information

Accessible Format: Individuals with disabilities can obtain this document and a copy of the application package in an accessible format (e.g., braille, large print, audiotape, or computer diskette) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at this site.

You may also access documents of the Department published in the Federal Register by using the article search feature at: http://www.federalregister.gov. Specifically, through the advanced search feature at this site, you can limit your search to documents published by the Department.

Dated: May 20, 2014.
Deborah S. Delisle,
Assistant Secretary for Elementary and Secondary Education.

[FR Doc. 2014-12045 Filed 5-22-14; 8:45 am]

BILLING CODE 4000-01-P